DEPARTMENT OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received by May 3, 2004.

Title, Form, and OMB Number: Army ROTC Referral Information; ROTC Form 155-R; OMB Number 0702-0111.

Type of Request: Reinstatement.

Number of Respondents: 16,300.

Responses Per Respondent: 1.

Annual Responses: 16,300.

Average Burden Per Response: 15 minutes.

Annual Burden Hours: 4,075.

Needs and Uses: The purpose of the information is to provide prospect referral data to a Professor of Military Science to contact individuals who have expressed an interest in Army ROTC. The Army ROTC Program produces approximately 75 percent of the newly commissioned officers for the U.S. Army. The Army must have the ability to attract quality men and women who will pursue college degrees.

Affected Public: Individuals or households.

Frequency: On occasion.

Respondent's Obligation: Voluntary.

OMB Desk Officer: Ms. Jacqueline Zeiher.

Written comments and recommendations on the proposed information collection should be sent to Ms. Zeiher at the Office of Management and Budget, Desk Officer for DoD, Room 10236, New Executive Office Building, Washington, DC 20503.

DOD Clearance Officer: Mr. Robert Cushing.

Written requests for copies of the information collection proposal should be sent to Mr. Cushing, WHS/ESCD/Information Management Division, 1225 Jefferson Davis Highway, Suite 504, Arlington, VA 22202-4326.

Dated: March 29, 2004.
L. M. Bynum,
Alternate OSD Federal Register Liaison Officer, Department of Defense.

[FR Doc. 04-7402 Filed 4-1-04; 8:45 am]

BILLING CODE 5001-06-M